DEPARTMENT OF THE INTERIOR

Bureau of Land Management

[AK-932-1430-ET; F-020174, F-35871, F-35872]

Public Land Withdrawals; Fort Greely East Training Area, Fort Greely West Training Area, Fort Wainwright Yukon Training Area; Alaska

AGENCY: Bureau of Land Management, Interior.

ACTION: Notice.

SUMMARY: This notice provides official publication of the legal descriptions of the Fort Greely East Training Area, the Fort Greely West Training Area, and the Fort Wainwright Yukon Training Area as required by Section 3012(a) of Public Law 106-65 enacted October 5, 1999.

EFFECTIVE DATE: October 5, 1999.

FOR FURTHER INFORMATION CONTACT: Robbie J. Havens, BLM Alaska State Office, 222 West 7th Avenue, No. 13, Anchorage, Alaska 99513-7599, 907-271-5049.

SUPPLEMENTARY INFORMATION: The legal descriptions of the public land withdrawals for the Fort Greely East Training Area, the Fort Greely West Training Area, and the Fort Wainwright Yukon Training Area affected by Public Law 106-65 are as follows:

Fairbanks Meridian (FM)

(a) Fort Greely East Training Area (Formerly Fort Greely Air Drop Area)

A parcel of land situated approximately 2.5 miles southeast of Delta Junction, being located between the Richardson and Alaska Highways and more particularly described as:

Beginning at a point 1.08 miles, east of U.S.C. and G.S. Station “Pillsbury,” Latitude 63°47′ 00.309″ N., Longitude 145°47′ 24.713″ W., said point of beginning being 150 feet east of the centerline of the Richardson Highway;

Thence due east approximately 4.5 miles to the west bank of Granite Creek;

Thence in a generally northeasterly direction approximately 11.83 miles to a point which is situated on the west bank of the Granite Creek and further identified as being situated one mile southerly at right angles to the centerline of the Alaska Highway;

Thence northwesterly, parallel with and one mile southerly at right angles to the centerline of the Alaska Highway to a point situated approximately 1,394 feet due south of the southeast corner of section 13, T. 11 S., R. 11 E., FM;

Thence north approximately 1,394 feet to said southeast corner of section 13, T. 11 S., R. 11 E., FM;

Thence west one mile, north one mile, west two miles, north one mile, west one mile, and north one mile following the south and west boundaries of sections 13, 11, 10, and 4, T. 11 S., R. 11 E., FM;

Thence west one mile along the south boundary of section 32, T. 10 S., R. 11 E., FM;

Thence west 1,172.8 feet approximately along the south boundary of section 31, T. 10 S., R. 11 E., FM, to a point on the east boundary of the Fort Greely Military Reservation (Public Land Order (PLO) No. 255), which point is situated approximately 7,062 feet due south of the centerline of the Alaska Highway;

Thence due south approximately 8,628 feet to the point of intersection of the north line bounding a 160-acre parcel of land reserved by PLO No. 1153 for the use of Department of the Army;

Thence east along the north line of said parcel 1,000 feet;

Thence south along the east line of said parcel 7,000 feet;

Thence west along the south line of said parcel 1,000 feet to the point of intersection of said boundary with the east boundary of the parcel of land reserved by PLO No. 255;

Thence south along said east boundary 6,000 feet;

Thence west along the south boundary of said reserve approximately 2.74 miles (14,479 feet) to a point on the east boundary line of section 27, T. 11 S., R. 10 E., FM;

Thence south two miles along the east boundary of sections 27 and 34, T. 11 S., R. 10 E., FM;

Thence south two miles, east one mile and south two miles along the east boundary of sections 14 and 23, T. 12 S., R. 10 E., FM;

Thence west approximately 0.75 mile to a point which is situated 150 feet easterly at right angles from the centerline of the Richardson Highway;

Thence southerly parallel to and 150 feet easterly from the centerline of the Richardson Highway approximately 4.75 miles to the point of beginning, excepting therefrom that portion of the W½ of section 26, T. 12 S., R. 10 E., FM, lying east of the Richardson Highway.

The area described contains approximately 51,590 acres.

(b) Fort Greely West Training Area (Formerly Fort Greely Maneuver Area)

A tract of land located in the Big Delta Area, and more particularly described as:

Beginning at the U.S.C. and G.S. Monument “Big Delta Airport,” Latitude 63°59′35″ N., Longitude 145°43′40″ W.;

Thence N. 04°55′47.3″ E., 11,997.64 feet to a point being at Latitude 64°01′32.868″ N., Longitude 145°43′16.607″ W.;

Thence due west to the mean high water line on the right bank of the Delta River, which point is the true point of beginning for this description;

Thence southerly along the right bank of the Delta River to the south boundary of the Fort Greely Military Reservation (PLO No. 255) to the southwest corner thereof;

Thence due east along the south boundary of the Fort Greely Military Reservation to a point on the north-south centerline of section 28, T. 11 S., R. 10 E., FM;

Thence south along the north-south centerlines of sections 28 and 33, T. 11 S., R. 10 E., FM, and sections 4, 9, and 16, T. 12 S. R. 10 E., FM to the center section monument of section 16;

Thence east to the west ¼ corner monument of section 15, T. 12 S., R. 10 E., FM;

Thence S. 0°05′ E., to the west section corner monument common to sections 15 and 22;

Thence east to the ¼ corner monument common to sections 15 and 22;

Thence south along the north-south centerline of sections 22, 27, and 34, T. 12 S., R. 10 E., FM, to the south ¼ corner of section 34;

Thence east 74 feet more or less, along the south boundary of section 34 to a point one-half mile west of the centerline of the existing Richardson Highway;

Thence southerly, parallel to and one-half mile west of said centerline to a point one-half mile due west of Donnelly, Alaska;

Thence N. 75°30′ W., 190,740 feet, more or less, to the east bank of Buchanan Creek;

Thence northerly along the east bank of Buchanan Creek and the east bank of Little Delta River to a point 11,560 feet, southerly from the point of confluence of Little Delta River and the Tanana River, which point is also located at Latitude 64°15′ N., Longitude 146°43′ W.;

Thence S. 52°40′ E., 160,843 feet, more or less, to a point identical with a point located at Latitude 63°59′ N., Longitude 145°55′ W.;

Thence N. 60°43′ E., 31,705 feet, more or less, to the point of beginning, excepting therefrom a five-acre tract of land embraced in U.S. Survey No. 5633 (Trade and Manufacturing Patent 50-75-0116), located at the confluence of the Little Delta River East and West Forks.

The area described contains approximately 571,995 acres.

(c) Fort Wainwright Yukon Training Area (Formerly Fort Wainwright Maneuver Area)

A parcel of land situated approximately 20 miles southeast of Fairbanks, Fourth Judicial District, State of Alaska:

T. 1 S. R. 3 E., unsurveyed,

Sec. 22, E½SE¼;

Sec. 23, S½;

Sec. 24, S½;

Secs. 25 and 26;

Sec. 27, E½E½;

Sec. 34, E½E½;

Secs. 35 and 36.

T. 2 S., R. 3 E., unsurveyed,

Secs. 1 and 2;

Sec. 3, E½E½;

Sec. 10, E½E½;

Secs. 11 and 12;

Sec. 14, N½, W½SW¼;

Sec. 15, E½E½;

Sec. 22, E½NE¼, NE¼SE¼;

Sec. 23, W½NW¼, S½SE¼, NE¼SE¼;

Sec. 24, S½;

Sec. 25;

Sec. 26, E½, SW¼, S½NW¼, NE¼NW¼.

T. 1 S., R. 4 E., unsurveyed,

Sec. 19, S½;

Sec. 21, SE¼;

Sec. 22, S½;

Sec. 23, S½;

Sec. 24, S½;

Secs. 25 to 36, inclusive.

T. 2 S., R. 4 E., unsurveyed,

Secs. 1 to 16, inclusive;

Sec. 17, E½;

Sec. 19, S½;

Sec. 20, E½, SW¼;

Secs. 21 to 30, inclusive;

Secs. 34, 35, and 36.

T. 3 S., R. 4 E., unsurveyed,

Secs. 1, 2, and 3;

Secs. 10 to 15, inclusive;

Secs. 22 to 27, inclusive;

Secs. 34, 35, and 36.

T. 4 S., R. 4 E., unsurveyed,

Sec. 1;

Sec. 2, E½, NW¼, N½SW¼;

Sec. 3, NE¼, N½NW¼;

Sec. 12, NE¼, N½NW¼.

T. 1 S., R. 5 E., unsurveyed,

Sec. 19, S½;

Sec. 20, S½;

Sec. 21, S½;

Sec. 22, S½;

Sec. 23, S½;

Sec. 24, S½;

Secs. 25 to 36, inclusive.

T. 2 S., R. 5 E., unsurveyed,

Secs. 1 to 36, inclusive.

T. 3 S., R. 5 E., unsurveyed,

Secs. 1 to 36, inclusive, excepting therefrom that parcel of land withdrawn by Public Land Order (PLO) No.1345 (F-O12866) dated October 16, 1956, as amended by PLO No.1523, dated October 8, 1957.

T. 4 S., R. 5 E.,

Secs. 1 to 6, inclusive;

Sec. 7, lots 1, 2, and 3, E½, E½NW¼, NE¼SW¼;

Secs. 8 to 15, inclusive;

Sec. 16, N½, SE¼, N½SW¼;

Sec. 17, NE¼, N½NW¼, excepting therefrom that parcel of land withdrawn by PLO No. 1345 (F-012867) dated October 16, 1956, as amended by PLO No.1523, dated October 8, 1957.

T. 1 S., R. 6 E.,

That portion of Tract A, more particularly described as (protracted): sec. 19, S½;

Sec. 20, S½;

Sec. 21, S½;

Secs. 28 to 33, inclusive.

T. 2 S., R. 6 E., unsurveyed,

Secs. 1 to 36, inclusive.

T. 3 S., R. 6 E., unsurveyed,

Secs. 1 to 36, inclusive.

T. 4 S., R. 6 E.

Secs. 1 to 18, inclusive.

T. 2 S., R. 7 E., unsurveyed,

Secs. 1 to 36, inclusive.

T. 3 S., R. 7 E., unsurveyed,

Secs. 1 to 36, inclusive.

T. 4 S., R. 7 E.,

Secs. 1 to 5, inclusive;

Sec. 6, lots 1, 2, 3, and 4, E½, E½W½;

Sec. 7, lots l, 2, 3, and 4, E½, E½W½;

Secs. 8, 9, 10, and 11;

Sec. 12, N½, N½SW¼;

Sec. 14, N½NW¼, NW¼NE¼, SW¼NW¼;

Sec. 15, N½, N½SW¼, SW¼SW¼, NW¼SE¼;

Secs. 16 and 17;

Sec. 18, lots 1, 2, 3, and 4, E½, E½W½.

T. 2 S., R. 8 E., unsurveyed,

Sec. 5, W½, W½E½;

Secs. 6 and 7;

Sec. 8, W½, W½E½;

Sec. 17, W½, W½E½;

Secs. 18 and 19;

Sec. 20, W½, W½E½;

Sec. 29, W½, W½E½;

Secs. 30 and 31;

Sec. 32, W½, W½E½.

T. 3 S., R. 8 E.,

Sec. 5, W½, W½E½;

Sec. 6, lots 1, 2, 3, and 4, E½, E½W½;

Sec. 7, lots 1, 2, 3, and 4, E½, E½W½;

Sec. 8, W½, W½E½;

Sec. 17, W½, W½E½;

Secs. 18 and 19;

Sec. 20, W½, W½E½;

Sec. 29, W½, W½E½;

Secs. 30 and 31;

Sec. 32, W½, W½E½.

T. 4 S., R. 8 E.,

Sec. 5, NW¼, W½NE¼, NW¼SW¼;

Sec. 6, lots 1, 2, 3, and 4, E½, E½W½;

Sec. 7, lot 1 and NE¼NW¼.

The area described contains approximately 246,277.33 acres.

The areas described aggregate approximately 869,862 acres.

Copies of the legal description and maps of each area are available for public inspection in the following offices: Public Works, Business Management/Real Estate Section, 730 Quartermaster Road, Fort Richardson, Alaska 99505-6500; Public Works, Business Management/Real Estate Section, 1060 Gaffney Road #6500, Fort Wainwright, Alaska 99703-6500; and BLM Alaska State Office, Division of Lands, Minerals, and Resources, 222 West 7th Avenue, No. 13, Anchorage, Alaska 99513-7599.

Dated: July 21, 2000.
Donald W. Baggs,
Supervisor, Lands and Minerals Group, Division of Lands, Minerals, and Resources.

[FR Doc. 00-20288 Filed 8-9-00; 8:45 am]

BILLING CODE 4310-JA-P